DEPARTMENT OF HOUSING AND URBAN DEVELOPMENT

[Docket No. FR-4723-FA-29]

Announcement of Funding Award—FY 2002 Lead-Based Paint Hazard Control Grant Program

AGENCY: Office of Healthy Homes and Lead Hazard Control, HUD.

ACTION: Announcement of funding awards.

SUMMARY: In accordance with section 102(a)(4)(C) of the Department of Housing and Urban Development Reform Act of 1989, this announcement notifies the public of a funding decision made by the Department in a competition for funding under the Office of Healthy Homes and Lead Based Paint Hazard Control Grant Program Notice of Funding Availability (NOFA). This announcement contains the name and address of the award recipients and the amounts of award.

FOR FURTHER INFORMATION CONTACT: Jonnette Hawkins, Department of Housing and Urban Development, Office of Healthy Homes and Lead Hazard Control, 451 Seventh Street, SW., Room 8236, Washington, DC 20410, telephone (202) 755-1785, ext. 7593. Hearing- and speech-impaired persons may access the number above via TTY by calling the toll free Federal Information Relay Service at (800) 877-8339.

SUPPLEMENTARY INFORMATION: The 2002 awards were announced in the HUD News Release on October 28, 2002. These awards were the result of a competition announced in a Federal Register notice published on March 26, 2002 (67 FR 14065) for the Lead Based Paint Hazard Control Grant Program. The purpose of the competition was to award grant funding for grants and cooperative agreements under this program. Applications were scored and selected on the basis of selection criteria contained in that notice.

In accordance with section 102(a)(4)(C) of the Department of Housing and Urban Development Reform Act of 1989 (103 Stat. 1987, 42 U.S.C. 3545), the Department is publishing the names, addresses, and amounts of these awards as follows:

A total of $86,103,942 was awarded to 37 new and eight renewal grantees for the Lead Based Paint Hazard Control Grant Program: City of Springfield, 800 West Monroe Street, Room 300, Springfield, IL 62701, $2,160,000; St. Clair County, 19 Public Square, Suite 200, Belleville, IL 62220, $2,158,687; City of Indianapolis, 200 East Washington Street, Suite 1841, Indianapolis, IN 46204, $1,754,527; City of Louisville/Jefferson County, 745 West Main Street, Louisville, KY 40402, $1,944,513; City of Phoenix, 200 West Washington, 4th Floor, Phoenix, AZ 85003, $2,160,000; Alameda County, 2000 Embarcadero, Suite 300, Oakland, CA 94606, $2,160,000; County of Riverside, 4065 County Circle Drive, P.O. Box 7600, Riverside, CA 92513, $2,160,000; San Diego Housing Commission, 1625 Newton Avenue, San Diego, CA 00921, $1,889,755; City and County of Denver, 216 Sixteenth Street, Suite 1400, Denver, CO 80202, $1,237,725; City of Marshalltown, 24 North Center Street, Marshalltown, IA 50158, $1,999,388; City of Malden, 200 Pleasant Street, Government Center, Room 621, Malden, MA 02148, $2,160,000; Commonwealth of Massachusetts, One Congress Street, Boston, MA 02114, $2,160,000; State of Maine, 353 Water Street, Augusta, ME 04330-4633, $2,160,000; City of Detroit, 1301 East Jefferson Avenue, Detroit, MI 48207, $2,160,000; City of Kansas City, 2400 Troost Avenue, Suite 4000, Kansas City, MO 64108, $1,680,744; St. Louis County, 121 South Meremec, Suite 444, Clayton, MO 63105, $2,159,981; City of Durham, 101 City Hall Plaza, Durham, NC 27701, $2,018,016; City of Rocky Mountain, P.O. Box 1180, Rocky Mountain, NC 27802, $2,121,431; City of Houston, 8000 North Stadium Drive, Houston, TX 77054, $2,160,000; City of Manchester, One City Hall Plaza, Manchester, NH 03101, $895,724; City of Vineland, City Hall, 640 East Wood Street, P.O. Box 1508, Vineland, NJ 08362, $1,423,995; Chautaqua County, NY, 7 North Erie, Mayville, NY 14692, $1,747,143; Monroe County, 111 Westfall Road, P.O. Box 92823, Rochester, NY 14692, $2,082,240; City of Akron, 177 South Broadway Street, Akron, OH 44308, $2,160,000; City of Cincinnati, City Hall, 801 Plum Street, Cincinnati, OH 45202, $2,150,658; City of Columbus, 50 West Gay Street, Columbus, OH 43215, $2,157,343; City of Newark, 40 West Main Street, Newark, OH 43055, $1,210,080; Montgomery County, 451 West 3rd Street, 10th Floor, Dayton, OH 45402, $1,296,000; Grand Gateway Economic Development Association, P.O. Box 311, Miami, OK 74355, $1,774,691; Allegheny County, 425 6th Avenue, Suite 800, Pittsburgh, PA 15219, $2,160,000; City of East Providence, 145 Taunton Avenue, East Providence, RI 02903, $1,530,922; City of Providence, 400 Westminister Street, Providence, RI 02903, $2,160,000; City of Austin, 505 Barton Springs Road, Suite 600, Austin, TX 78704, $1,851,741; Salt Lake County, 2001 South State Street, Room S-2100, Salt Lake City, UT 14190, $1,296,000; City of Lynchburg, 900 Church Street, Lynchburg, VA 24504, $2,139,781; Commonwealth of Virginia, The Jackson Center, 501 North Second Street, Richmond, VA 23219, $2,160,000; Kenosha County Division of Health, 714 52nd Street, Kenosha, WI 53140, $1,503,808; Town of Manchester, 41 Center Street, P.O. Box 191, Manchester, CT 06045, $2,000,000; State of Illinois, 525 W. Jefferson Street, Springfield, IL 62761, $2,000,000; City of Cambridge, 795 Massachusetts Avenue, Cambridge, MA 02139, $1,999,049; City of Lowell, Middlesex County, Lowell, MA 01852, $2,000,000; City of Syracuse, 233 East Washington Street, Syracuse, NY 13202, $2,000,000; Mahoning County, 121 West Boardman Street, Youngstown, OH 44503, $2,000,000; City of Milwaukee, 1230 West Grant Street, Milwaukee, WI 53215, $2,000,000; State of Wisconsin, 101 East Wilson Street, 6th Floor, P.O. Box 7868, Madison, WI 53708, $2,000,000.

Dated: July 3, 2006.
Jon L. Gant,
Director, Office of Healthy Homes and Lead Hazard Control.

[FR Doc. E6-10948 Filed 7-11-06; 8:45 am]

BILLING CODE 4210-27-P